NUCLEAR REGULATORY COMMISSION

10 CFR Part 50

[NRC-2017-0151]

RIN 3150-AK07

Reactor Vessel Material Surveillance Program; Correction

AGENCY: Nuclear Regulatory Commission.

ACTION: Regulatory basis; availability; correction.

SUMMARY: The U.S. Nuclear Regulatory Commission (NRC) is correcting a document that published in the Federal Register (FR) on April 3, 2019, regarding the availability of a regulatory basis to support a rulemaking that would amend the NRC's regulations for the light-water power reactor vessel material surveillance programs. This action is necessary to correct the ADAMS accession number for the regulatory basis.

DATES: The correction is effective April 12, 2019.

ADDRESSES: Please refer to Docket ID NRC-2017-0151 when contacting the NRC about the availability of information for this action. You may obtain publicly-available information related to this action by any of the following methods:

• Federal Rulemaking Website: Go to http://www.regulations.gov and search for Docket ID NRC-2017-0151. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Stewart Schneider, Office of Nuclear Material Safety and Safeguards, U.S. Nuclear Regulatory Commission, Washington, DC 20555-0001; telephone; 301-415-4123; email: Stewart.Schneider@nrc.gov.

SUPPLEMENTARY INFORMATION:

Correction

In FR Rule Doc. 2019-06418, appearing on page 12876 in the April 3, 2019, Federal Register, in the second bullet in the second column on page 12876, correct the ADAMS Accession No. “ML18057A005” to read “ML19038A477”.

Dated at Rockville, Maryland, this 9th day of April, 2019.
For the Nuclear Regulatory Commission.
Cindy K. Bladey,
Chief, Regulatory Analysis and Rulemaking Support Branch, Division of Rulemaking, Office of Nuclear Material Safety and Safeguards.

[FR Doc. 2019-07282 Filed 4-11-19; 8:45 am]

BILLING CODE 7590-01-P